DEPARTMENT OF HOUSING AND URBAN DEVELOPMENT

[Docket No. FR-5037-N-65]

Notice of Submission of Proposed Information Collection to OMB; Emergency Comment Request; Section 32 and Section 5(h) Homeownership Program Evaluation Interview Guides

AGENCY: Office of the Assistant Secretary for Public and Indian Housing, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: October 5, 2006.

ADDRESSES: Interested persons are invited to submit comments regarding this proposal. Comments must be received within ten (10) days from the date of this Notice. Comments should refer to the proposal by name and should be sent to: HUD Desk Officer, Office of Management and Regulatory Affairs, Office of Management and Budget, New Executive Office Building, Washington, DC 20503.

FOR FURTHER INFORMATION CONTACT: Lillian Deitzer, Departmental Reports Management Officer, QDAM Department of Housing and Urban Development, 451 Seventh Street, SW., Washington, DC 20410; e-mail Lillian_Deitzer@hud.gov, telephone (202) 708-2374. This is not a toll-free number. Copies of documentation submitted to OMB may be obtained from Ms. Deitzer.

SUPPLEMENTARY INFORMATION: This Notice informs the public that the U.S. Department of Housing and Urban Development (HUD) has submitted to OMB, for emergency processing, a proposed information collection requirement as described below. This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Section 32 and Section 5(h) Homeownership Program Evaluation Interview Guides.

Description of Information Collection: Increasing low-income homeownership opportunities is an important part of HUD's mission. Empirical research on program characteristics and outcomes will provide an understanding of what factors drive program success and the impact of public policy. The Office of Public and Indian Housing (PIH) seeks a full evaluation of its Section 32 and Section 5(h) Public Housing Homeownership programs. The effectiveness of these programs has direct bearing on the Department's performance of it mission to increase homeownership opportunities. To date, there has been no broad assessment of the various Section 32 and Section 5(h) program models or program activities. Case studies and interviews will be conducted among Public Housing Authority Executives and program administrators. Where appropriate, interviews will be conducted with community partners. Currently there is no database with information on program models or program activities. These evaluation activities are consistent with the directives of the Office of Management and Budget's Program Assessment Ranking system and the mandate of the Government Performance and Results Act of 1993 (GPRA).

OMB Control Number: 2577—(Pending).

Agency Form Numbers: None.

Members of Affected Public: State, Local or Tribal Government, Individuals or households.

Estimation of the total numbers of hours needed to prepare the information collection including number of respondents, frequency of responses, and hours of response: The estimated number of respondents is 590 per year. The estimated number of hours needed per respondent is 1.13 hours. The total public burden is estimated to be 520 hours per year.

Status: New Collection.

Authority: The Paperwork Reduction Act of 1995, 44 U.S.C. Chapter 35, as amended.

Dated: September 14, 2006.
Lillian Deitzer,
Departmental Reports Management Officer, Office of the Chief Information Officer.

[FR Doc. 06-7810 Filed 9-20-06; 8:45 am]

BILLING CODE 4210-67-P